DEPARTMENT OF THE INTERIOR

Bureau of Land Management

[LLMTL060-L16100000-DO0000]

Notice of Intent To Prepare a Resource Management Plan and Associated Environmental Impact Statement for the Lewistown Field Office and a Portion of the Butte Field Office, Montana

AGENCY: Bureau of Land Management, Interior.

ACTION: Notice of intent.

SUMMARY: Pursuant to the Federal Land Policy and Management Act of 1976, as amended (FLPMA), and the National Environmental Policy Act of 1969, as amended (NEPA), the Bureau of Land Management (BLM) Lewistown and Butte Field Offices intend to prepare a Resource Management Plan (RMP) with an associated Environmental Impact Statement (EIS) for the RMP for BLM public lands and resources managed by the Lewistown Field Office, and a small portion of the Butte Field Office in northern Lewis and Clark County, Montana. Through this notice, public scoping is also being announced to solicit public comments and assist with the identification and development of planning issues. The RMP will replace the existing Headwaters Resource Area RMP, dated September 1984, and the Judith Resource Management Plan, dated 1994, as amended.

DATES: This notice initiates the public scoping process for the RMP and associated EIS. Comments and resource information should be submitted to the BLM within 60 calendar days of publication of this notice in the Federal Register. A series of public scoping meetings will be held throughout the planning area. Meeting times and locations will be announced 15 days prior to each event through local news media, newsletters and the BLM Web site at: http://blm.gov/ngld.

Formal scoping comments should be submitted prior to the close of the scoping period or 30 days after the last public scoping meeting, whichever is later. The BLM will provide additional opportunities for public participation upon publication of the Draft RMP/EIS.

ADDRESSES: Documents related to this proposal may be viewed at the Lewistown Field Office, 920 NE Main St., Lewistown, MT 59457, during regular business hours from 8:00 a.m. to 4:30 p.m., Monday through Friday, except holidays, or online at: http://blm.gov/ngld. Written public comments and input may be submitted by any of the following methods:

• Email: blm_mt_lewistown_rmp@blm.gov

• Fax: 406-538-1904, Attention: Lewistown RMP

• Mail: BLM Lewistown Field Office, Attention:

Lewistown RMP, 920 NE Main St., Lewistown, MT 59457

FOR FURTHER INFORMATION CONTACT: Dan Brunkhorst, RMP Project Manager, Lewistown Field Office, at 406-538-1981 or by email blm_mt_lewistown_rmp@blm.gov. Contact Mr. Brunkhorst if you wish to be added to the mailing list.

SUPPLEMENTARY INFORMATION: This document provides notice that the BLM intends to prepare an RMP with an associated EIS, for the Lewistown Field Office and a portion of the Butte Field Office for public lands located in northern Lewis and Clark County. This notice also announces the beginning of the scoping process and seeks public input on issues, planning criteria, and nominations for Areas of Critical Environmental Concern (ACEC).

The RMP/EIS will fulfill the needs and obligations set forth by FLPMA, NEPA, and BLM management policies. The area to be covered under the Lewistown RMP/EIS is located in the central part of Montana in Petroleum, Fergus, Judith Basin, Chouteau, Cascade, Meagher, Teton, Pondera, and northern Lewis and Clark counties. The Lewistown RMP planning area comprises approximately 654,025 acres of BLM-managed surface lands and 1,399,880 acres of BLM-administered Federal minerals.

The BLM will work collaboratively with interested parties and cooperating agencies to identify the management decisions that are best suited to local, regional, tribal and national needs and concerns. The public scoping process will identify, develop, and refine planning issues and planning criteria, including an evaluation of the existing RMP, in the context of the needs and interests of the public. Planning issues and criteria will guide the planning process. Comments on issues and planning criteria may be submitted in writing to the BLM at any public scoping meeting or by using one of the methods listed above.

Preliminary issues, management concerns and planning criteria have been identified by BLM personnel and other agencies. This information represents the BLM's knowledge to date regarding the existing issues and concerns with current land management. The preliminary issues that will be addressed in this planning effort include:

• Vegetation management (including noxious weeds and invasive species management);

• Fish and wildlife habitat;

• Special status species;

• Recreation and visitor services;

• Forest management;

• Fire management (including issues related to the wildland urban interface);

• Livestock grazing;

• Land tenure adjustment;

• Right-of-way corridors and land use authorizations;

• Minerals and energy development;

• Recreation management (including commercial special recreation permits);

• Travel management and access;

• Opportunities to identify areas for regional mitigation strategies; and

• Special management area designations, (including nominations for ACECs and comments specific to existing ACECs and other special designation areas).

After public comments are gathered regarding issues the RMP/EIS should address, they will be placed in one of three categories:

1. Issues to be resolved in the RMP/EIS;

2. Issues to be resolved through policy or administrative action; or

3. Issues beyond the scope of the RMP/EIS.

Rationale will be provided in the RMP/EIS for each comment placed in category two or three. In addition to these major issues, a number of management questions and concerns will be addressed in the RMP/EIS. The public is encouraged to help identify these questions and concerns during the scoping phase.

The BLM will use an interdisciplinary approach to develop the RMP/EIS in order to consider the variety of resource issues and concerns identified. Specialists with expertise in the following disciplines will be involved in the planning process, including but not limited to: Rangeland management; minerals and geology; wildland fire and fuels management; outdoor recreation; archaeology; paleontology; wildlife and fisheries; lands and realty; soil, water and air; global climate change; environmental justice, sociology, and economics.

The following preliminary planning criteria have been proposed to guide development of the RMP/EIS, avoid unnecessary data collection and analyses, and ensure the RMP/EIS is tailored to the issues. Other criteria may be identified during the public scoping process. After gathering comments on preliminary planning criteria, the BLM will finalize the criteria and provide feedback to the public on the criteria to be used throughout the planning process. Some of the planning criteria that are under consideration include:

• The plan will be completed in compliance with FLPMA and all other applicable laws.

• The planning process will include an EIS that will comply with NEPA.

• The plan will establish new guidance and identify existing guidance upon which the BLM will rely in managing public lands within the Lewistown Field Office and the Butte Field Office (for the northern portion of Lewis and Clark County).

• The RMP/EIS will incorporate by reference the Standards for Rangeland Health and Guidelines for Livestock Grazing Management; the Off-Highway Vehicle EIS and Plan Amendment for Montana, North Dakota, and Portions of South Dakota; the Montana/Dakotas Statewide Fire Management Plan; Best Management Practices for Forestry in Montana; the Montana Streamside Management Zone Law and Rules, and the Vegetation Treatments Using Herbicides Final EIS.

• The RMP/EIS will incorporate by reference all prior Wilderness Study Area findings that affect public lands in the planning area.

• The planning process will include early coordination and Endangered Species Act (ESA) consultation meetings with the U.S. Fish and Wildlife Service during the development of the plan.

• Native American consultation and coordination—the Blackfeet Indian Reservation is adjacent to the planning area (Pondera County). Also, other tribes will be contacted early during the scoping process to determine what level of participation they would like to have during the RMP process. Early consultation and close coordination will take place to ensure the tribes' needs are considered, analyzed, and the BLM fulfills its trust responsibilities.

• Early consultation will be conducted with the State Historic Preservation Office (SHPO) on any potential effect of the plan on cultural resources under provisions of the National Historic Preservation Act of 1966, as amended (16 U.S.C. 470f) and under the National Programmatic Agreement. Relevant/interested tribal governments and the SHPO will be invited as cooperating agencies.

• The plan will result in determinations as required by special program and resource specific guidance as described in BLM Manual 6280—Management of National Scenic and Historic Trails and Trails under Study or Recommended as Suitable for Congressional Designation.

• The plan will be consistent with BLM Handbook H-1624-1, Planning for Fluid Minerals (and/or updated manual/policy guidance).

• The RMP/EIS will be consistent with the interagency reference guide titled Reasonably Foreseeable Development Scenarios and Cumulative Effects Analysis developed by the Rocky Mountain Federal Leadership Forum on NEPA, Oil and Gas, and Air Quality.

• The plan will recognize the State's responsibility to manage wildlife populations, including uses such as hunting and fishing, within the planning area.

• To the extent possible, goals and objectives in the plan for plants and wildlife (including special status species) will incorporate or respond to goals and objectives from established recovery plans, conservation strategies, strategic plans, etc.

• Decisions in the plan will strive to be compatible with the existing plans and policies of adjacent local, State, tribal, and Federal agencies as long as the decisions are in conformance with legal mandates on management of public lands.

• The scope of analysis will be consistent with the level of analysis in approved plans and in accordance with Bureau-wide standards and program guidance.

• Geospatial data will be automated within a Geographic Information System to facilitate discussions of the affected environment, alternative formulation, analysis of environmental consequences, and display of the results.

• Resource allocations must be reasonable and achievable within available technological and budgetary constraints.

• Best management practices (BMPs) for oil and gas, road drainage, grazing, water quality BMPs for Montana forests, fire rehab, fire management, wind energy, power lines, and sage grouse conservation will be included in the Plan.

• The BLM will coordinate with the Lewis and Clark National Historic Trail, Nez Perce National Historic Trail and the Continental Divide National Scenic Trail Administrators during the land use planning process regarding the establishment of the National Trail Management Corridors.

Respondents' comments, including names and street addresses, will be available for public review at the Lewistown Field Office during regular business hours 8:00 a.m.—4:30 p.m., Monday through Friday, except holidays, and may be published as part of the RMP/EIS. Before including your address, phone number, email address or other personal identifying information in your comment, you should be aware that your entire comment, including your personal identifying information, may be made publicly available at any time. While you can ask us in your comment to withhold your personal identifying information from public review, we cannot guarantee that we will be able to do so. Formal scoping comments should be submitted within 60 days of publication of this notice in the Federal Register or 30 days after the last public scoping meeting, whichever is later. All submissions from organizations and businesses, and from individuals identifying themselves as representatives of organizations or businesses, will be available for public inspection in their entirety.

Authority: 40 CFR 1501.7 and 43 CFR 1610.2

Katherine P. Kitchell,
Acting State Director.

[FR Doc. 2014-02801 Filed 2-7-14; 8:45 am]

BILLING CODE 4310-DN-P